DEPARTMENT OF ENERGY

Federal Energy Regulatory Commission

[Docket Nos. EL03-137-000, et al.]

American Electric Power Service Corp, Docket Nos. EL03-137-000, et al.; Notice of Second Plenary Conference

August 14, 2003.

In the matter of EL03-137-000, EL03-138-000, EL03-139-000, EL03-140-000, EL03-141-000, EL03-142-000, EL03-143-000, EL03-144-000, EL03-145-000, EL03-146-000, EL03-147-000, EL03-148-000, EL03-149-000, EL03-150-000, EL03-151-000, EL03-152-000, EL03-153-000, EL03-154-000, EL03-155-000, EL03-156-000, EL03-157-000, EL03-158-000, EL03-159-000, EL03-160-000, EL03-161-000, EL03-162-000, EL03-163-000, EL03-164-000, EL03-165-000, EL03-166-000, EL03-167-000, EL03-168-000, EL03-169-000, EL03-170-000, EL03-171-000, EL03-172-000, EL03-173-000, EL03-174-000, EL03-175-000, EL03-176-000, EL03-177-000, EL03-178-000, EL03-179-000; Aquila, American Electric Power Service Corporation Inc., Arizona Public Service Company, Automated Power Exchange, Inc., Bonneville Power Administration, California Department of Water Resources, California Power Exchange, Cargill-Alliant, LLC, City of Anaheim, California, City of Azuza, California, City of Glendale, California, City of Pasadena, California, City of Redding, California, City of Riverside, California, Coral Power, LLC, Duke Energy Trading and Marketing Company Dynegy Power Marketing, Inc., Dynegy Power Corp., El Segundo Power LLC, Long Beach Generation, LLC, Cabrillo, Power 1 LLC and Cabrillo Power II LLC, Enron Power Marketing, Inc. and Enron Energy Services, Inc., F P & L Energy, Idaho Power Company, Los Angeles Department of Water and Power Mirant Americas Energy Marketing, LP, Mirant Americas Energy Marketing, LP, and Mirant Potero, LLC, Modesto Irrigation District, Morgan Stanley Capital Group, Northern California Power Agency, Pacific Gas and Electric Company, PacifiCorp, PGE Energy Services, Portland General Electric Company, Powerex Corporation, (f/k/a British Columbia Power Exchange Corp.), Public Service Company of Colorado, Public Service Company of New Mexico, Puget Sound Energy, Inc., Reliant Resources, Inc., Reliant Energy Power Generation, and Reliant Energy Services, Inc., Salt River Project Agricultural, Improvement and Power District San Diego Gas & Electric Company, Sempra Energy Trading Corporation, Sierra Pacific Power Company, Southern California Edison Company, TransAlta Energy Marketing (U.S.) Inc. and TransAlta Energy Marketing (California), Inc., Tucson Electric Power Company, Western Area Power Administration, Williams Energy Services Corporation.

Take notice that the Trial Staff of the Federal Energy Regulatory Commission (Commission) will convene a second plenary conference in the above-referenced cases on Tuesday, August 26, 2003 at 10 a.m. in Hearing Room 1 at the offices of the Commission, 888 1st Street, Washington, DC 20426. The conference will continue to be held as a settlement conference pursuant to Rule 602 of the Commission's Rules of Practice and Procedure, 18 CFR 385.602. Therefore, participation at the conference will be limited to the Identified Entities listed above, interveners in the instant dockets, and Trial Staff.

At the conference, Trial Staff plans to initially meet with the Identified Entities and all interveners to discuss the overall status of the proceeding. In that regard, Trial Staff plans to discuss with all the parties procedures that can be adopted to streamline the discovery and trial phases of the instant case for those entities that cannot be removed from the case by means of settlement or dismissal prior to September 3, 2003. It would be Trial Staff's aim to find a way to preserve fruitful settlement discussions for those cases that do not settle or are not dismissed before September 3, 2003. Similarly, Trial Staff is mindful of the numerous petitions for rehearing and requests for clarification that have been filed and would like to discuss the ramifications of those pleadings and potential Commission action on those filings.

Thereafter, Trial Staff proposes, as necessary, to meet with the Identified Entities and the Intervener Groups. As time permits, Trial Staff would also be willing to meet with individual Identified Entities about the particular status of their cases.

All parties with questions regarding this second plenary conference may contact Joel M. Cockrell at 202-502-8153, Edith A. Gilmore at 202-502-8632, or Janet K. Jones at 202-502-8165.

Magalie R. Salas,
Secretary.

[FR Doc. 03-21377 Filed 8-20-03; 8:45 am,

BILLING CODE 6717-01-P